DEPARTMENT OF ENERGY

Federal Energy Regulatory Commission

[Docket No. CP01-79-000]

ANR Pipeline Company; Notice of Application

February 12, 2001.

Take notice that on February 1, 2001, ANR Pipeline Company (ANR), 500 Renaissance Center, Detroit Michigan 48243, filed in Docket No. CP01-79-000, an application, pursuant to section 7(c) of the Natural Gas Act and Part 157 of the Federal Energy Regulatory Commission's Regulations for a certificate of public convenience and necessity authorizing ANR to construct and operate certain pipeline facilities in Wisconsin, all as more fully set forth in the application which is on file with the Commission and open to public inspection. This filing may be viewed on the web at http://www.ferc.fed.us/online/rims.htm. (Call 202-208-2222 for assistance.)

ANR proposes to construct and operate approximately 222 miles of 20-inch diameter pipeline to serve a proposed gas-fired power plant to be constructed by Badger Generating Company, LLC, in Kenosha County, Wisconsin. The proposed facilities consist of 12.8 miles of pipeline looping ANR's Racine Lateral which extends from ANR's mainline in Racine County, Wisconsin, to Kenosha, Wisconsin, and an additional 9.5 miles of pipeline connecting to the power plant. ANR states that the pipeline will enable ANR to provide gas transportation service to the plant and will have a capacity of up to 210 Mmcf of natural gas per day. ANR explains that the proposed facilities are needed to provide a fuel source to a power generation plant that will meet the growing electric generation requirements of the Midwest. ANR estimates the cost of the proposed facilities at approximately $19.5 million. ANR requests that the FERC issue a certificate by October 2001, so that the plant may become operational by the summer of 2003.

Any questions regarding this application should be directed to Richard W. Porter, Assistant Vice President, Rates and Regulatory Affairs, at (313) 496-2473, ANR Pipeline Company, 500 Renaissance Center, Detroit, Michigan 48243.

Any person desiring to be heard or to make any protest with reference to said application should on or before March 5, 2001, file with the Federal Energy Regulatory Commission, 888 First Street, NE., Washington, DC 20426, a motion to intervene or protest in accordance with the requirements of the Commission's Rules of Practice and Procedure (18 CFR 385.211 and 385.214) and the regulations under the Natural Gas Act (18 CFR 157.10). All protests filed with the Commission will be considered by it in determining the appropriate action to be taken but will not serve to make the protestants parties to the proceeding. Any person wishing to become a party to any proceeding must file a motion to intervene in accordance with the Commission's rules. Beginning November 1, 2000, comments and protests may be filed electronically via the internet in lieu of paper. See 18 CFR 385.2001(a)(1)(iii) and the Commission's website at http://www.ferc.fed.us/efi/doorbell.htm.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however in order to have comments considered, a person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the commission, and will not have the right to seek rehearing or appeal the Commission's final order to a Federal court.

The Commission will consider all comments and concerns equally, whether filed by Commenters or those requesting intervenor status. Take further notice that, pursuant to the authority contained in and subject to the jurisdiction conferred upon the Commission by sections 7 and 15 of the Natural Gas Act and the Commission's Rules of Practice and Procedure, a hearing will be held without further notice before the Commission or its designee on this application if no motion to intervene is filed within the time required herein, if the Commission on its own review of the matter finds that a grant of the certificate authority is required by the public convenience and necessity. If a motion for leave to intervene is timely filed, or if the Commission on its own motion believes that a formal hearing is required, further notice of such hearing will be duly given. Under the procedure herein provided for, unless otherwise advised it, will be unnecessary for ANR to appear or be represented at the hearing.

Linwood A. Watson, Jr.,
Acting Secretary.

[FR Doc. 01-3907 Filed 2-15-01; 8:45 am]

BILLING CODE 6717-01-M